DEPARTMENT OF HEALTH AND HUMAN SERVICES

Food and Drug Administration

[Docket Nos. FDA-2012-N-0873; FDA-2008-D-0031; FDA-2013-N-0242; FDA-2013-N-0125; FDA-2013-N-0093; FDA-2016-N-1593; FDA-2015-N-2406; FDA-2013-N-0450; FDA-2011-N-0830]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: FDA PRA Staff, Office of Operations, Food and Drug Administration, Three White Flint North, 11601 Landsdown St., North Bethesda, MD 20852, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the Internet at http://www.reginfo.gov/public/do/PRAMain. An Agency may not conduct or sponsor, and a person is not required to respond to, a collection of information unless it displays a currently valid OMB control number.

Table 1—List of Information Collections Approved By OMB
Title of collection | OMB control No. | Date approval expires
Bar Code Label Requirements for Human Drug Products and Biological Products | 0910-0537 | 9/30/2019
Clinical Laboratory Improvement Amendments Waiver Applications | 0910-0598 | 9/30/2019
Current Good Manufacturing Practices for Positron Emission Tomography Drugs | 0910-0667 | 9/30/2019
Medical Devices: Use of Certain Symbols in Labeling—Glossary to Support the Use of Symbols in Labeling | 0910-0740 | 9/30/2019
Evaluation of the Program for Enhanced Review Transparency and Communication for New Molecular Entity New Drug Applications and Original Biologics License Applications in Prescription Drug User Fee Act | 0910-0746 | 9/30/2019
Medical Device Accessories | 0910-0823 | 9/30/2019
Market Claims in Direct-to-Consumer Prescription Drug Print Ads | 0910-0824 | 9/30/2019
Abbreviated New Animal Drug Applications | 0910-0669 | 10/31/2019
Abbreviated New Drug Applications and 505(b)(2) Applications | 0910-0786 | 11/30/2019

Dated: December 13, 2016.
Leslie Kux,
Associate Commissioner for Policy.

[FR Doc. 2016-30351 Filed 12-16-16; 8:45 am]

BILLING CODE 4164-01-P